DEPARTMENT OF JUSTICE

Antitrust Division

Notice Pursuant to the National Cooperative Research and Production Act of 1993—Accellera Systems Initiative

Notice is hereby given that, on April 11, 2012, pursuant to Section 6(a) of the National Cooperative Research and Production Act of 1993, 15 U.S.C. 4301 et seq. (“the Act”), Accellera Systems Initiative (“Accellera”) has filed written notifications simultaneously with the Attorney General and the Federal Trade Commission disclosing changes in its membership. The notifications were filed for the purpose of extending the Act's provisions limiting the recovery of antitrust plaintiffs to actual damages under specified circumstances. Specifically, Aldec, Inc., Henderson, NV; AMD, Sunnyvale, CA; Australian Semiconductor Technology Company, Adelaide, AUSTRALIA; Boeing, El Segundo, CA; Cisco Systems, San Jose, CA; Cypress Semiconductor, San Jose, CA; Duolog, Dublin, IRELAND; Freescale Semiconductor, Austin, TX; IBM, Hopewell Junction, NY; Jasper Design Automation, Mountain View, CA; Magillem Design Services, Paris, FRANCE; Oracle Corporation, Santa Clara, CA; Paradigm Works, Inc., Andover, MA; Renesas Mobile, Salo, FINLAND; Semifore, Inc., Mountain View, CA; SpringSoft, San Jose, CA; Vayavya Labs, Belguam, INDIA; Verilab, Austin, TX; and Xilinx, Inc., San Jose, CA, have been added as parties to this venture.

No other changes have been made in either the membership or planned activity of the group research project. Membership in this group research project remains open, and Accellera intends to file additional written notifications disclosing all changes in membership.

On October 9, 2001, Accellera filed its original notification pursuant to Section 6(a) of the Act. The Department of Justice published a notice in the Federal Register pursuant to Section 6(b) of the Act on January 3, 2002 (67 FR 350).

The last notification was filed with the Department on February 6, 2012. A notice was published in the Federal Register pursuant to Section 6(b) of the Act on March 8, 2012 (77 FR 14045).

Patricia A. Brink,
Director of Civil Enforcement, Antitrust Division.

[FR Doc. 2012-10515 Filed 5-1-12; 8:45 am]

BILLING CODE P